DEPARTMENT OF THE INTERIOR

National Park Service

[NPS-WASO-NRNHL-20880; PPWOCRADI0, PCU00RP14.R50000]

National Register of Historic Places; Notification of Pending Nominations and Related Actions

AGENCY: National Park Service, Interior.

ACTION: Notice.

SUMMARY: The National Park Service is soliciting comments on the significance of properties nominated before April 9, 2016, for listing or related actions in the National Register of Historic Places.

DATES: Comments should be submitted by May 16, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before April 9, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Falcon Field World War II Aviation Hangers, 4800 E. Falcon Dr., Mesa, 16000266

FLORIDA

Brevard County

Green Gables, 1501 South Harbor City, Melbourne, 16000269

Broward County

Davie Woman's Club, (Clubhouses of Florida's Woman's Clubs MPS) 6551 SW. 45th St., Davie, 16000267

Leon County

Gaither House, 212 Young St., Tallahassee, 16000268

Putnam County

Bethel African American Episcopal Church, 710 Reid St., Palatka, 16000270

St. Johns County

St. Augustine National Cemetery, 104 Marine St., St. Augustine, 16000271

HAWAII

Honolulu County

Dilks Property, 1302 Mokulua Dr., Kailua, 16000272

Ewa Plain Battlefield, Address Restricted, Kapolei, 16000273

Maui County

Kahului Railroad Administration Building, 101 E. Kaahumanu Ave., Kahului, 16000274

MARYLAND

Montgomery County

U.S. Atomic Energy Commission, 19901 Germantown Rd., Germantown, 16000275

MINNESOTA

Aitkin County

Pine—Hickory Lakes Roadside Parking Area, (Federal Relief Construction in Minnesota, 1933-1943) MN 169, .25 mi. N. of 249th Ln., Aitkin, 16000276

Hennepin County

McLeod and Smith Inc. Headquarters, 700-708 Central Ave. NE., Minneapolis, 16000277

Olmsted County

Maass and McAndrew Company Building, 12-14 4th St. SW., Rochester, 16000278

Renville County

Hotel Sacred Heart, 112 W. Maple St., Sacred Heart, 16000279

St. Louis County

Ely Community Center, (Federal Relief Construction in Minnesota, 1933-1943) 30 S. 1st Ave. East, Ely, 16000280

MISSISSIPPI

Claiborne County

Port Gibson High School (Old), (Port Gibson MRA) 161 Ramsey Dr., Port Gibson, 16000285

Harrison County

Southwest Gulfport Historic District, Bounded by Railroad, 15th, 11th, 9th & Central Sts., 32nd, 36th, 37th, 42nd, 43rd & 34th Aves., Gulfport, 16000281

Jefferson Davis County

Prentiss Normal and Industrial Institute Historic District, 292 J.E. Johnson Rd., Prentiss, 16000282

Kemper County

Perkins House, 2709 Townsend Rd., DeKalb, 16000283

Wilkinson County

Arbuthnot's Grocery and House, 8990 Pinckneyville Rd., Woodville, 16000284

MISSOURI

Perry County

Perry County Courthouse, 15 W. Sainte Marie St., Perryville, 16000286

NORTH CAROLINA

Cleveland County

Davidson Elementary School, 500 W. Piedmont Ave., Kings Mountain, 16000287

Hertford County

Pleasant Plains School, (Rosenwald School Building Program in North Carolina MPS) US 13 S. of Jct. with Pleasant Plains Rd., Pleasant Plains, 16000288

OHIO

Hamilton County

Old Town Hall, 10759 Oxford Rd., Harrison, 16000289

OREGON

Multnomah County

Fairview City Jail, 120 1st St., Fairview, 16000290

Leland, James W., House, 5303 SW. Westwood View, Portland, 16000291

SOUTH CAROLINA

Greenville County

Beth Israel Synagogue, 307 Townes St., Greenville, 16000292

WASHINGTON

Clark County

Luepke Florist, 1300 Washington St., Vancouver, 16000293

Grays Harbor County

Hotel Morck, 215 S. K St., Aberdeen, 16000294

A request for removal has been received for the following resources:

ARIZONA

Yavapai County

Strahan House, (Cottonwood MRA) 725 E. Main St., Cottonwood, 86002157

Thompson Ranch, (Cottonwood MRA) 2874 US Alt. 89, Cottonwood, 86002162

MINNESOTA

Isanti County

Farmers Cooperative Mercantile Company of West Stanford, (Isanti County MRA) Co. Hwy. 7, Isanti, 80002079

Ramsey County

Hall, S. Edward, House, 996 Iglehart Ave., St. Paul, 91000440

Authority: 60.13 of 36 CFR part 60.

Dated: April 14, 2016.
Roger Reed,
Acting Chief, National Register of Historic Places/National Historic Landmarks Program.

[FR Doc. 2016-10017 Filed 4-28-16; 8:45 am]

BILLING CODE 4312-51-P